ENVIRONMENTAL PROTECTION AGENCY

[EPA-HQ-OAR-2017-0759; FRL-9974-78-OAR]

Proposed Information Collection Request; Comment Request; Certification and Compliance Requirements for Medium- and Heavy-Duty Engines and Vehicles (Greenhouse Gases and Fuel Economy)

AGENCY: Environmental Protection Agency (EPA).

ACTION: Notice.

SUMMARY: The Environmental Protection Agency is planning to submit an information collection request (ICR), “Certification and Compliance Requirements for Medium- and Heavy-Duty Engines and Vehicles (Greenhouse Gases and Fuel Economy),” (EPA ICR Number 2394.06, OMB Control Number 2060-0048) to the Office of Management and Budget (OMB) for review and approval in accordance with the Paperwork Reduction Act (44 U.S.C. 3501 et seq.). Before doing so, EPA is soliciting public comments on specific aspects of the proposed information collection as described below. This is a proposed extension of the ICR, which is currently approved through April 30, 2018. An Agency may not conduct or sponsor and a person is not required to respond to a collection of information unless it displays a currently valid OMB control number.

DATES: Comments must be submitted on or before April 30, 2018.

ADDRESSES: Submit your comments, referencing the Docket ID No. EPA-HQ-OAR-2017-0759, online using www.regulations.gov (our preferred method), by email to a-and-r-Docket@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Mr. Fakhri Hamady, US Environmental Protection Agency, 2000 Traverwood Drive, Ann Arbor, MI 48105; telephone number: 734-214-4330; and/or Ms. Nydia Y. Reyes-Morales, US Environmental Protection Agency, 1200 Pennsylvania Avenue NW, Mail Code 6405A, Washington, DC 20460; telephone number: 202-343-9264; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave., NW, Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: For this ICR, EPA is seeking a revision with a three-year extension to an existing package. Title II of the Clean Air Act, (42 U.S.C. 7521 et seq.; CAA), charges the Environmental Protection Agency (EPA) with developing standards for compounds deemed `pollutants' (as defined by the CAA itself) and with issuing certificates of conformity for those engines and motor vehicle designs that comply with applicable emission standards. Such a certificate must be issued before engines and vehicles may be legally introduced into commerce. The Supreme Court's decision in Massachusetts v. Environmental Protection Agency, 549 U.S. 497 (2007), extended that charge to greenhouse gases (GHGs) when it ruled that GHGs are in fact pollutants as defined in the CAA. Furthermore, 49 U.S.C. 32902 requires the National Highway Traffic Safety Administration (NHTSA), in consultation with the Department of Energy and the EPA, to prescribe each model year average fuel economy standards. Under 49 U.S.C. 32907, manufacturers are required to submit reports to both NHTSA and EPA demonstrating how they plan to comply with applicable average fuel economy standards.

Under this ICR, EPA, in collaboration with NHTSA, collects information necessary to discharge those obligations with regards to certain medium- and heavy-duty engines and vehicles [collectively referred to here as “heavy-duty (HD) engines/vehicles” for simplicity]. Specifically, EPA and NHTSDA (1) issue certificates of compliance with GHG emission requirements and fuel economy standards; and (2) verify compliance with regulatory provisions for manufacturers of HD engines, HD pickup trucks and vans, vocational vehicles and combination tractors.

To apply for a certificate of conformity, manufacturers submit descriptions of their planned production engines or vehicles, including detailed descriptions of emission control systems and test data. They also submit compliance plans and annual production reports and keep records.

To reduce the burden on affected manufacturers and enhance compliance flexibility, the CAA created the Averaging, Banking and Trading (AB&T). AB&T is a voluntary program that allows manufacturers to bank credits for groups of engines/vehicles that emit below the standard and use the credits for groups that emit above the standard. They may also trade banked credits with other manufacturers. AB&T participants are required to submit information regarding the calculation, actual generation and usage of credits.

The information and test results manufacturers submit is verified by EPA through confirmatory testing and by NHTSA through limited equipment testing and modeling runs; and used to ensure compliance. It is collected electronically by EPA's Diesel Engine Compliance Center (DECC), Compliance Division, Office of Transportation and Air Quality, Office of Air and Radiation; and stored in DECC's databases. The information may also be used by EPA's Office of Enforcement and Compliance Assurance and the Department of Justice for enforcement purposes.

Manufacturers may assert a claim of confidentiality over information provided to EPA. Confidentiality is granted in accordance with the Freedom of Information Act and EPA regulations at 40 CFR part 2. Non-confidential information may be disclosed on OTAQ's website or upon request under the Freedom of Information Act to trade associations, environmental groups, and the public.

Forms: None.

Respondents/affected entities: Manufacturers of heavy-duty (HD) engines, HD pickups and vans, vocational vehicles and combination tractors.

Respondent's obligation to respond: Regulated engine and vehicle manufacturers must respond to this collection if they wish to sell their products in the US, as prescribed by Section 206(a) of the CAA (42 U.S.C. 7521).

Estimated number of respondents: 49 (total).

Frequency of response: Annually or On Occasion, depending on the type of response.

Total estimated burden: 2,095 hours (per year). Burden is defined at 5 CFR 1320.03(b).

Total estimated cost: $229,102 (per year), includes $55,012 in annualized capital or operation & maintenance costs.

Changes in Estimates: Preliminary estimates reflect a substantial decrease in the total estimated respondent burden compared with the ICR currently approved by OMB. This is mainly due to two factors:

(1) A net decrease in the total number of applications for certification submitted each year. While the number of respondents (manufacturers) has increased in comparison to the previous ICR, EPA had overestimated the number of HD engine/vehicle families each manufacturer would seek to certify; and

(2) Manufacturer's use of carry over data. Now that the program has been in place for a few years, manufacturers are able to “carry over” test data from one model year to the next. Manufacturers may carry over (resubmit) test results if no significant emission-related changes have been made to an engine or vehicle family. This considerably lowers the burden and expense of preparing and submitting certification applications.

Dated: February 15, 2018.
Byron J. Bunker,
Director, Compliance Division, Office of Transportation and Air Quality, Office of Air and Radiation.

[FR Doc. 2018-03984 Filed 2-26-18; 8:45 am]

BILLING CODE 6560-50-P